DEPARTMENT OF THE INTERIOR

Geological Survey

[GX25WB12E6R22; OMB Control Number 1028-0130]

Agency Information Collection Activities; Wildlife Video Data Scoring

AGENCY: U.S. Geological Survey, Department of the Interior.

ACTION: Notice of information collection; request for comment.

SUMMARY: In accordance with the Paperwork Reduction Act (PRA) of 1995, we, the U.S. Geological Survey (USGS), are proposing to renew an information collection.

DATES: Interested persons are invited to submit comments. To be consider, your comments must be received on or before July 18, 2025.

ADDRESSES: You may submit comments by one of the following methods:

Internet: https://www.regulations.gov. Search for and submit comments on Docket No. USGS-ECO-2025-0003.

U.S. Mail: USGS, Information Collections Clearance Officer, 12201 Sunrise Valley Drive, MS 159, Reston, VA 20192.

FOR FURTHER INFORMATION CONTACT: Heather Johnson by email at heatherjohnson@usgs.gov, or by telephone at 907-786-7155. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA of 1995 (44 U.S.C. 3501 et seq.) and 5 CFR 1320.8(d)(1), all information collections require approval under the PRA. An agency may not conduct or sponsor, nor is an individual required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of the burden estimate for this collection of information, including the validity of the methodology and assumptions used;

(3) Ways to enhance the quality, utility, and clarity of the information to be collected; and

(4) How agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifying information (PII) in your comment, you should be aware that your entire comment—including your PII—may be made publicly available at any time. While you can ask us in your comment to withhold your personal identifying information from public review, we cannot guarantee that we will be able to do so.

Abstract: We have developed an online application that enables collaborators and volunteers to watch video clips collected from wildlife video camera collars and enter data observed in the clips into the online application. Information collected from the videos will be analyzed to assess wildlife activity budgets, reproduction, diets, and preferred habitat conditions, and used to better understand mechanisms influencing wildlife movements, distributions and population trends. Results of the analyses will be published in peer-reviewed scientific publications that will be available to the public.

Title of Collection: Wildlife Video Data Scoring.

OMB Control Number: 1028-0130.

Form Number: None.

Type of Review: Extension of a currently approved collection.

Respondents/Affected Public: Project collaborators (including some DOI agency employees) and volunteers.

Total Estimated Number of Annual Respondents: 12.

Total Estimated Number of Annual Responses: 8000.

Estimated Completion Time per Response: 2 minutes on average.

Total Estimated Number of Annual Burden Hours: 267.

Respondent's Obligation: Voluntary.

Frequency of Collection: Depends on the time and interest of the respondent. Some respondents will enter data on a weekly basis, others will enter data less frequently.

Total Estimated Annual Nonhour Burden Cost: None.

The authority for this action is the PRA of 1995 (44 U.S.C. 3501 et seq.).

John M. Pearce,
Supervisory Wildlife Biologist, Alaska Region.

[FR Doc. 2025-08841 Filed 5-16-25; 8:45 am]

BILLING CODE 4338-11-P